DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration, Wage and Hour Division (WHD) is soliciting comments concerning the following proposed collection: Application of the Employee Polygraph Protection Act. A copy of the proposed information collection request can be obtained by contacting the office listed below in the addressee section of this Notice.

DATES: Written comments must be submitted to the office listed in the addressee section below on or before July 12, 2002.

ADDRESSES: Ms. Patricia A. Forkel, U.S. Department of Labor, 200 Constitution Ave., NW., Room S-3201, Washington, DC 20210, telephone (202) 693-0339, fax (202) 693-1451, EMail pforkel@fenix2.dol-esa.gov. Please use only one method of transmission for comments (mail, fax, or EMail).

SUPPLEMENTARY INFORMATION:

I. Background

The Wage and Hour Division (WHD) administers the Employee Polygraph Protection Act of 1988 (EPPA). The EPPA was signed into law June 27, 1988 and became effective December 27, 1988. EPPA prohibits most private employers from using any lie detector tests either for pre-employment screening or during the course of employment. Federal, State, and local government employers are exempted from the Act. The law contains several limited exemptions which authorize polygraph tests under certain conditions, including: (1) The testing of employees who are reasonably suspected of involvement in a workplace incident that results in economic loss or injury to the employer's business; (2) the testing by the Federal Government of experts, consultants, or employees of Federal contractors engaged in national security intelligence or counterintelligence functions; (3) the testing of some prospective employees of private armored car, security alarm, and security guard firms; and (4) the testing of some current and prospective employees in firms authorized to manufacture, distribute, or dispense controlled substances. Employers who violate any of the Act's provisions may be assessed civil money penalties up to $10,000. The information collection is currently approved by the Office of Management and Budget (OMB) for use through October 2002.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks an extension of approval of this information collection that requires the keeping of records necessary or appropriate for the administration of the Act in order to carry out its responsibility to determine if a beneficiary is capable and/or competent to manage his/her black lung benefits, and to assure that the representative payee is using the benefits to meet the beneficiary's needs. There is no change to these forms since the last OMB approval.

Type of Review: Extension.

Agency: Employment Standards Administration.

Titles: Application of the Employee Polygraph Protection Act.

OMB Number: 1215-0170.

Agency Numbers: Not Applicable.

Affected Public: Businesses or other for-profit; individuals or households; Not-for-profit institutions; Farms.

Total Respondents/Responses: 328,000.

Total Hours: 82,406.

Total Burden Cost (capital/startup): $0.

Total Burden Cost (operation/maintenance): $0.

Comments submitted in response to this notice will be summarized and/or included in the request for Office of Management and Budget approval of the information collection request; they will also become a matter of public record.

Dated: May 6, 2002.
Margaret J. Sherrill,
Chief, Branch of Management Review and Internal Control, Division of Financial Management, Office of Management, Administration and Planning, Employment Standards Administration.

[FR Doc. 02-11881 Filed 5-10-02; 8:45 am]

BILLING CODE 4510-27-P